U.S.-CHINA ECONOMIC AND SECURITY REVIEW COMMISSION

Notice of Open Public Hearing

AGENCY: U.S.-China Economic and Security Review Commission.

ACTION: Notice of open public hearing—May 10, 2012, Washington, DC.

SUMMARY: Notice is hereby given of the following hearing of the U.S.-China Economic and Security Review Commission.

Name: Dennis Shea, Chairman of the U.S.-China Economic and Security Review Commission. The Commission is mandated by Congress to investigate, assess, and report to Congress annually on “the national security implications of the economic relationship between the United States and the People's Republic of China”. Pursuant to this mandate, the Commission will hold a public hearing in Washington, DC on May 10, 2012, “Assessing China's Efforts to Become an Innovation Society—A Progress Report”.

Background

This is the fifth public hearing the Commission will hold during its 2012 report cycle to collect input from academic, industry, and government experts on national security implications of the U.S. bilateral trade and economic relationship with China. The May 10 hearing will address China's innovation capabilities, with emphasis on the information technology and defense sectors. The hearing will be co-chaired by Commissioners Sen. Carte Goodwin and Hon. Dennis Shea. Any interested party may file a written statement by May 9, 2012, by mailing to the contact below. A portion of each panel will include a question and answer period between the Commissioners and the witnesses.

Location, Date and Time: 562 Dirksen Senate Office Building. Thursday May 10, 2012, 8:45 a.m.-3:40 p.m. Eastern Time. A detailed agenda for the hearing will be posted to the Commission's Web Site at www.uscc.gov as soon as available. Please check our Web site at www.uscc.gov for possible changes to the hearing schedule. Reservations are not required to attend the hearing.

FOR FURTHER INFORMATION CONTACT: Any member of the public seeking further information concerning the hearing should contact Gavin Williams, 444 North Capitol Street NW., Suite 602, Washington, DC 20001; phone: 202-624-1492, or via email at gwilliams@uscc.gov. Reservations are not required to attend the hearing.

Authority: Congress created the U.S.-China Economic and Security Review Commission in 2000 in the National Defense Authorization Act (Pub. L. 106-398), as amended by Division P of the Consolidated Appropriations Resolution, 2003 (Pub. L. 108-7), as amended by Public Law 109-108 (November 22, 2005).

Dated: May 1, 2012.
Michael Danis,
Executive Director, U.S.-China Economic and Security Review Commission.

[FR Doc. 2012-10869 Filed 5-4-12; 8:45 am]

BILLING CODE 1137-00-P